DEPARTMENT OF TRANSPORTATION

Coast Guard

33 CFR Part 117

[CGD13-02-003]

RIN 2115-AE47

Drawbridge Operations Regulations; Lake Washington Ship Canal, WA

AGENCY: Coast Guard, DOT.

ACTION: Notice of temporary deviation from regulations.

SUMMARY: The Commander, Thirteenth Coast Guard District has issued a temporary deviation from the regulations governing the operation of the Montlake Drawbridge across the Lake Washington Ship Canal, mile 5.2, at Seattle, Washington. During the deviation period, vessel operators must give five hours notice when requesting that both leaves of the bascule span be opened during the day from March 15 to May 14, 2002. Single leaf openings will be available as provided by the current operating regulations. This deviation is necessary to facilitate painting the bridge.

EFFECTIVE DATE: This deviation is effective from 6 a.m. on March 15 to 6 p.m. on May 14, 2002.

ADDRESSES: Unless otherwise noted, documents referred to in this notice are available for inspection and copying at Commander (oan), Thirteenth Coast Guard District, 915 Second Avenue, Seattle, Washington 98174-1067, room 3510 between 7:45 a.m. and 4:15 p.m., Monday through Friday, except federal holidays. The Bridge Section of the Aids to Navigation and Waterways Management Branch maintain the docket for this temporary deviation.

FOR FURTHER INFORMATION CONTACT: Austin Pratt, Chief, Bridge Section, Aids to Navigation and Waterways Management Branch, Telephone (206) 220-7282.

SUPPLEMENTARY INFORMATION: The Montlake Bridge across the Lake Washington Ship Canal, mile 5.2, at Seattle, Washington, provides 48 feet of vertical clearance above mean regulated lake level of Lake Washington for the central 100 feet of the bascule span. Navigation on the waterway includes tugs, gravel barges, construction barges, sailboats, motor yachts, and government vessels. The majority of the vessels can safely pass under the drawbridge in its closed position or through a single-leaf opening. Single-leaf openings are not affected by this temporary deviation and will be provided according to the normal operating regulations. A containment system, which encloses a portion of the bridge during sandblasting and painting, impedes prompt double-leaf openings of the draw. The five-hour notice is necessary to enable the contractor to derig and remove equipment and personnel from the draw before opening. This temporary deviation allows the Montlake Bridge to operate only one leaf on signal, per the existing regulations at 33 CFR 117.1051, unless five hours notice is provided for double-leaf openings between the hours of 6 a.m. and 6 p.m. March 15 to May 14, 2002, May 4 excepted. May 4th has been excepted from this temporary deviation to accommodate the Opening Day of Boating Season.

Dated: April 12, 2002.
R. W. Wicklund,
Captain, U.S. Coast Guard Commander, Thirteenth Coast Guard District, Acting.

[FR Doc. 02-10178 Filed 4-24-02; 8:45 am]

BILLING CODE 4910-15-P